DEPARTMENT OF COMMERCE

Foreign-Trade Zones Board

Docket 41-2007

Foreign-Trade Zone 161 - Wichita, Kansas, Expansion of Subzone and Scope of Manufacturing Authority, Subzone 161A, Hospira, Inc. (Pharmaceutical Products), McPherson, Kansas

An application has been submitted to the Foreign-Trade Zones (FTZ) Board (the Board) by the Board of County Commissioners of Sedgwick, Kansas, grantee of FTZ 161, requesting to expand the subzone and scope of manufacturing authority under zone procedures for Subzone 161A, at the Hospira, Inc. (Hospira) facility in McPherson, Kansas. It was formally filed on August 23, 2007.

Subzone 161A was approved by the Board in 1994 at Hospira's plant (2 buildings totaling 265,000 square feet, 72%% of which is devoted to manufacturing, on 160 acres) located at 1776 North Centennial Drive, in McPherson, Kansas. The facility (775 employees) is used to produce and/or distribute a wide range of pharmaceuticals (Board Order 699, 59 FR 38431, 7/20/94).

Hospira is now requesting authority to expand the subzone to include an additional 301,310 square feet at the main building, located at 1776 North Centennial Drive in McPherson, Kansas, for the distribution and manufacture of pharmaceutical products. The applicant is also requesting authority to add rubber stoppers (HTSUS 4016.99.1500) to its scope of manufacturing authority. Hospira's scope also includes a broad range of inputs and pharmaceutical final products that it may produce under FTZ procedures in the future. (New major activity in these inputs/products would require review by the FTZ Board.) The duty rates for these inputs and final products range from duty-free to 17.6 percent.

Zone procedures would exempt Hospira from Customs duty payments on foreign materials used in production for export (some 10-15%% of shipments). On domestic shipments, the company would be able to defer Customs duty payments on foreign materials, and to choose the duty rate that applies to the finished products (duty-free to 5%%) instead of the rates otherwise applicable to the foreign input materials (duty-free to 17.6%%). McPherson also expects to realize additional savings through the use of weekly entry procedures. The application indicates that the savings from zone procedures would help improve the plant's international competitiveness.

In accordance with the Board's regulations, a member of the FTZ staff has been designated examiner to investigate the application and report to the Board.

Public comment is invited from interested parties. Submissions (original and 3 copies) shall be addressed to the Board's Executive Secretary at the address below. The closing period for their receipt is October 30, 2007. Rebuttal comments in response to material submitted during the foregoing period may be submitted during the subsequent 15-day period (to November 14, 2007.)

A copy of the application and accompanying exhibits will be available for public inspection at each of the following locations: U.S. Department of Commerce Export Assistance Center, 150 N. Main Street, Suite 200, Wichita, Kansas 67202-1305 and the Office of the Executive Secretary, Foreign-Trade Zones Board, Room 2111, U.S. Department of Commerce, 1401 Constitution Avenue, NW., Washington, DC 20230.

For further information, contact Kathleen Boyce at 202-482-1346 or Kathleen_Boyce@ita.doc.gov.

Dated: August 23, 2007.
Andrew McGilvray,
Executive Secretary.

[FR Doc. E7-17331 Filed 8-30;-07; 8:45 am]

BILLING CODE 3510-DS-S